DEPARTMENT OF DEFENSE

Department of the Navy

Notice of Availability of Government-Owned Inventions; Available for Licensing

AGENCY: Department of the Navy, DoD.

ACTION: Notice.

SUMMARY: The inventions listed below are assigned to the United States Government as represented by the Secretary of the Navy and are available for domestic and foreign licensing by the Department of the Navy.

The following patents are available for licensing: U.S. Patent No. 8,046,845: LIGHTWEIGHT COMBAT HELMET//U.S. Patent No. 8,061,570: QUICK RELEASE MASK BRACKET//U.S. Patent No. 8,142,127: TORQUE NUT ASSEMBLY//U.S. Patent No. 8,159,387: MULTI-TRANSMITTER INTERFEROMETRY//U.S. Patent No. 8,161,899: MULTIPLE TORPEDO MINE//U.S. Patent No. 8,167,670: BLOW-OFF FLOAT VEHICLE RECOVERY APPARATUS//U.S. Patent No. 8,186,275: NON-LETHAL PROJECTILE FOR DISPERSING PAYLOAD UPON TARGET IMPACT//U.S. Patent No. 8,196,513: STAND-OFF DISRUPTER APPARTUS//U.S. Patent No. 8,213,740: COHERENT IMAGE CORRELATION//U.S. Patent No. 8,217,318: SUBMERSIBLE HAND WARMER//U.S. Patent No. 8,226,042: SPIN CONTROL SYSTEM FOR A SUSPENDED OBJECT THAT IS TO BE DEPLOYED IN OR RECOVERED FROM WATER//U.S. Patent No. 8,281,641: TESTING SYSTEM FOR SELF-CONTAINED BREATHING APPARATUS REGULATOR//U.S. Patent No. 8,322,231: HYDROSTATIC FORCE/DISPLACEMENT MEASURING DEVICE//U.S. Patent No. 8,326,081: CORRELATION IMAGE DETECTOR//U.S. Patent No. 8,333,295: PRESSURE VESSEL//U.S. Patent No. 8,334,614: VESSEL OF INTEREST COMMUNICATIONS SYSTEM//U.S. Patent No. 8,336,536: ACTIVE HEATING SYSTEM FOR UNDERWATER DIVER//

ADDRESSES: Requests for copies of the patents cited should be directed to Office of Counsel, Naval Surface Warfare Center Panama City Division, 110 Vernon Ave., Panama City, FL 32407-7001.

FOR FURTHER INFORMATION CONTACT: Mr. James Shepherd, Patent Counsel, Naval Surface Warfare Center Panama City Division, 110 Vernon Ave., Panama City, FL 32407-7001, telephone 850-234-4646.

Authority: 35 U.S.C. 207, 37 CFR Part 404.

Dated: February 25, 2013.
C.K. Chiappetta,
Lieutenant Commander, Office of the Judge Advocate General, U.S. Navy, Federal Register Liaison Officer.

[FR Doc. 2013-05231 Filed 3-5-13; 8:45 am]

BILLING CODE 3810-FF-P